DEPARTMENT OF HOMELAND SECURITY

Transportation Security Administration

Revision of Agency Information Collection Activity Under OMB Review: Critical Facility Information of the Top 100 Most Critical Pipelines

AGENCY: Transportation Security Administration, DHS.

ACTION: 30-day Notice.

SUMMARY: This notice announces that the Transportation Security Administration (TSA) has forwarded the Information Collection Request (ICR), Office of Management and Budget (OMB) control number 1652-0050, abstracted below, to OMB for a revision of the currently approved collection under the Paperwork Reduction Act (PRA). The ICR describes the nature of the information collection and its expected burden. TSA developed and implemented a plan to review the security plans and inspect critical pipeline systems to comply with a requirement in the Implementing Recommendations of the 9/11 Commission Act of 2007 (9/11 Act).

DATES: Send your comments by November 15, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on June 30, 2021, 86 FR 34776.

Comments Invited

In accordance with the Paperwork Reduction Act of 1995 (44 U.S.C. 3501 et seq.), an agency may not conduct or sponsor, and a person is not required to respond to, a collection of information unless it displays a valid OMB control number. The ICR documentation will be made available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Critical Facility Information of the Top 100 Most Critical Pipelines.

Type of Request: Extension of a currently approved collection.

OMB Control Number: 1652-0050.

Forms(s): Critical Facility Security Review; TSA Pipeline Cybersecurity Self-Assessment form.

Affected Public: Pipeline companies.

Abstract: The 9/11 Act specifically tasked TSA to develop and implement a plan for reviewing the pipeline security plans and inspecting critical facilities of the 100 most critical pipeline operators. See sec. 1557 of the 9/11 Act (Pub. L. 110-53; 121 Stat. 266, 475, Aug. 3, 2007; codified at 6 U.S.C. 1207(b)). TSA visits critical pipeline facilities and collects site-specific information from pipeline operators on facility security policies, procedures, and physical security measures. TSA uses the information to determine strengths and weaknesses at the nation's critical pipeline facilities, areas to target for risk reduction strategies, pipeline industry implementation of the TSA Pipeline Security Guidelines, and operator implementation of recommendations made during TSA critical facility visits.

The collection of information is being revised to align the Critical Facility Security Review question set with the revised Pipeline Security Guidelines (with Change 1 (April 2021)), and to capture additional criticality criteria. In addition, on May 26, 2021, OMB approved the emergency request, requiring owner/operators of a critical hazardous liquid and natural gas pipeline or liquefied natural gas facility to review Section 7 of TSA's Pipeline Security Guidelines (with Change 1 (April 2021)), and assess current activities, using the TSA Pipeline Cybersecurity Self-Assessment form, to address cyber risk, and identify remediation measures that will be taken to fill those gaps and a timeframe for achieving those measures.

Number of Respondents: 260.

Estimated Annual Burden Hours: An estimated 1400 hours annually.¹

¹ The number of respondents and annual burden hours have been updated since the publication of the 60-day notice, which reported 160 respondents and 720 annual burden hours. The update was necessary due to the emergency revision of the collection to include the mandatory requirements.

Dated: October 8, 2021.
Christina A. Walsh,
TSA Paperwork Reduction Act Officer, Information Technology.

[FR Doc. 2021-22329 Filed 10-13-21; 8:45 am]

BILLING CODE 9110-05-P